POSTAL SERVICE

39 CFR Part 501

Authorization To Manufacture and Distribute Postage Meters

AGENCY: Postal Service.

ACTION: Final rule.

SUMMARY: This rule corrects outdated or incorrect information in the text of the cautionary label required to be placed on rented postage meters.

DATES: Effective September 15, 2004.

FOR FURTHER INFORMATION CONTACT: Stanley F. Mires, (202) 268-2958.

SUPPLEMENTARY INFORMATION: Amendment of part 501 is necessary to ensure that the cautionary labels required to be placed on rented postage meters contain current information.

List of Subjects in 39 CFR Part 501

Administrative practice and procedure.

For the reasons set forth above, the Postal Service amends 39 CFR part 501 as follows:

PART 501—[AMENDED]

1. The authority citation for part 501 continues to read as follows:

Authority: 5 U.S.C. 552(a); 39 U.S.C. 101, 401, 403, 404, 410, 2601, 2605; Inspector General Act of 1978, as amended (Pub. L. 95-452, as amended), 5 U.S.C. App. 3.

2. Revise § 501.23(r)(1) to read as follows:

§ 501.23 Distribution controls.

* * * * *

(r) * * *

(1) The cautionary label must be placed on all meters in a conspicuous and highly visible location. Words printed in capital letters should be emphasized, preferably printed in red. The minimum width of the label should be 3.25 inches, and the minimum height should be 1.75 inches. The label should read as follows:

RENTED POSTAGE METER—NOT FOR SALE PROPERTY OF [NAME OF MANUFACTURER]

Use of this meter is permissible only under U.S. Postal Service license. Call [Name of Manufacturer] at (800) ###-#### to relocate/return this meter.

WARNING! METER TAMPERING IS A FEDERAL OFFENSE. IF YOU SUSPECT METER TAMPERING, CALL POSTAL INSPECTORS AT 1-800-654-8896

REWARD UP TO $50,000 for information leading to the conviction of any person who misuses postage meters resulting in the Postal Service not receiving correct postage payments.

* * * * *

Previous versions of the cautionary label are out of date, and should be replaced by the manufacturer when the meter is returned by the licensee for any reason or inspected under § 501.26.

Stanley F. Mires,
Chief Counsel, Legislative.

[FR Doc. 04-20095 Filed 9-14-04; 8:45 am]

BILLING CODE 7710-12-P